DEPARTMENT OF LABOR

Employment and Training Administration

[NAFTA-04101]

The Garden Grow Co., Lilly Miller Packet Seed Division, Wilsonville, OR; Notice of Negative Determination Regarding Application for Reconsideration

By application dated November 2, 2000, the petitioner requested administrative reconsideration of the Department's negative determination regarding worker eligibility to apply for NAFTA-Transitional Adjustment Assistance. The denial notice was signed on October 6, 2000 and published in the Federal Register on November 1, 2000 (65 FR 65331).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petitioner requested that the Department reassess the findings that The Garden Company has not shifted production to Canada, nor has the Division of Lilly Miller. No new information concerning the decision was provided by the petitioner for reconsideration.

The Department's denial of NAFTA-TAA was based on the findings that creiteria (3) and (4) of the group eligibility requirements of paragraph (a)(1) of section 250 of the Trade Act of 1974, as amended, were not met. Findings of the investigation showed that workers of The Garden Grow Company, Lilly Miller Packet Seed Division, Wilsonville, Oregon packaged seed in paper envelopes. The Department's denial of NAFTA-TAA for workers of the subject firm was based on the finding that there was no shift of production from the Wilsonville, Oregon production facility to Mexico or Canada. Sales and production were relatively flat. The workers were separated because the subject division was sold to a competitor who is shifting the work to another domestic location.

Although, the company has shifted some production (plastic seed bottle production) to Canada, no shifts in production have occurred during the relevant period.

Conclusion

After review of the application and investigative findings, I conclude that there has been no error or misinterpretation of the law or of the facts which would justify reconsideration of the Department of Labor's prior decision. Accordingly, the application is denied.

Signed at Washington, DC, this 21st day of November 2000.
Linda G. Poole,
Certifying Officer, Division of Trade Adjustment Assistance.

[FR Doc. 00-31037 Filed 12-5-00; 8:45 am]

BILLING CODE 4510-30-M